DEPARTMENT OF ENERGY

Federal Energy Regulatory Commission

Combined Notice of Filings #1

Take notice that the Commission received the following electric corporate filings:

Docket Numbers: EC21-128-000.

Applicants: PSEG Fossil LLC, PSEG Fossil Sewaren Urban Renewal LLC, PSEG Keys Energy Center LLC, PSEG Energy Resources & Trade LLC, Parkway Generation, LLC, Parkway Generation Essex, LLC.

Description: Joint Application for Authorization Under Section 203 of the Federal Power Act of PSEG Fossil LLC, et al.

Filed Date: 9/2/21.

Accession Number: 20210902-5163.

Comment Date: 5 p.m. ET 11/1/21.

Docket Numbers: EC21-129-000.

Applicants: Bay Tree Solar, LLC, Bay Tree Lessee, LLC.

Description: Application for Authorization Under Section 203 of the Federal Power Act of Bay Tree Solar, LLC, et al.

Filed Date: 9/3/21.

Accession Number: 20210903-5211.

Comment Date: 5 p.m. ET 9/24/21.

Take notice that the Commission received the following electric rate filings:

Docket Numbers: ER18-1587-001.

Applicants: Tyr Energy, LLC.

Description: Supplement to August 2, 2021 Notice of Change in Status of Tyr Energy, LLC.

Filed Date: 9/3/21.

Accession Number: 20210903-5149.

Comment Date: 5 p.m. ET 9/24/21.

Docket Numbers: ER21-2535-000.

Applicants: Dichotomy Power Maine, LLC.

Description: Supplement to July 28, 2021 Market-based Rate Application of Dichotomy Power Maine, LLC.

Filed Date: 9/3/21.

Accession Number: 20210903-5136.

Comment Date: 5 p.m. ET 9/13/21.

Docket Numbers: ER21-2698-000.

Applicants: Portland General Electric Company.

Description: Portland General Electric Company submits Average System Cost Filing for Sales of Electric Power to the Bonneville Power Administration, FY 2022-2023.

Filed Date: 9/7/21.

Accession Number: 20210907-5137.

Comment Date: 5 p.m. ET 9/28/21.

Docket Numbers: ER21-2840-000.

Applicants: PJM Interconnection, L.L.C.

Description: § 205(d) Rate Filing: Interim ISA, Service Agreement No. 6166, Queue No. AF2-122 to be effective 8/8/2021.

Filed Date: 9/7/21.

Accession Number: 20210907-5046.

Comment Date: 5 p.m. ET 9/28/21.

Docket Numbers: ER21-2841-000.

Applicants: Ohio Power Company, American Electric Power Service Corporation, PJM Interconnection, L.L.C.

Description: § 205(d) Rate Filing: Ohio Power Company submits tariff filing per 35.13(a)(2)(iii: AEP submits the Saint Marys FA re: ILDSA SA No. 1672 to be effective 11/7/2021.

Filed Date: 9/7/21.

Accession Number: 20210907-5088.

Comment Date: 5 p.m. ET 9/28/21.

Docket Numbers: ER21-2842-000.

Applicants: PacifiCorp.

Description: Tariff Amendment: Termination of Lehi City Construction Agreement—Spring Creek to be effective 11/21/2021.

Filed Date: 9/7/21.

Accession Number: 20210907-5099.

Comment Date: 5 p.m. ET 9/28/21.

Docket Numbers: ER21-2843-000.

Applicants: AEP Texas Inc.

Description: § 205(d) Rate Filing: AEPTX-ETT (Clear Crossing) Facilities Development Agreement to be effective 8/27/2021.

Filed Date: 9/7/21.

Accession Number: 20210907-5119.

Comment Date: 5 p.m. ET 9/28/21.

Docket Numbers: ER21-2844-000.

Applicants: PJM Interconnection, L.L.C.

Description: § 205(d) Rate Filing: Original ISA/CSA, Service Agreement Nos. 6157/6158; Queue No. AB2-036 to be effective 8/8/2021.

Filed Date: 9/7/21.

Accession Number: 20210907-5125.

Comment Date: 5 p.m. ET 9/28/21.

Docket Numbers: ER21-2845-000.

Applicants: PJM Interconnection, L.L.C.

Description: § 205(d) Rate Filing: Interim ISA, SA No. 6156; Queue No. AC1-194 to be effective 8/8/2021.

Filed Date: 9/7/21.

Accession Number: 20210907-5140.

Comment Date: 5 p.m. ET 9/28/21.

Docket Numbers: ER21-2846-000.

Applicants: System Energy Resources, Inc.

Description: § 205(d) Rate Filing: SERI UPSA Errata to be effective 6/1/2018.

Filed Date: 9/7/21.

Accession Number: 20210907-5153.

Comment Date: 5 p.m. ET 9/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2021.
Debbie-Anne A. Reese,
Deputy Secretary.

[FR Doc. 2021-19742 Filed 9-13-21; 8:45 am]

BILLING CODE 6717-01-P